DEPARTMENT OF COMMERCE

National Oceanic and Atmospheric Administration

RIN 0648-XR13

Endangered Species; File Nos. 14344 and 14400

AGENCY: National Marine Fisheries Service (NMFS), National Oceanic and Atmospheric Administration (NOAA), Commerce.

ACTION: Notice; receipt of applications.

SUMMARY: Notice is hereby given that the University of California, Davis, Bodega Marine Laboratory and the Channel Islands National Park have applied in due form for permits to take endangered abalone species for purposes of scientific research and enhancement.

DATES: Written, telefaxed, or e-mail comments on the new applications, amendment requests must be received on or before September 28, 2009.

ADDRESSES: The applications and related documents are available for review upon written request or by appointment in the following office(s):

All documents: Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period.

Comments may also be submitted by e-mail. The mailbox address for providing e-mail comments is NMFS.Pr1Comments@noaa.gov. Include in the subject line of the e-mail comment the appropriate document identifier: File No. 14344 or 14400.

FOR FURTHER INFORMATION CONTACT: Jennifer Skidmore or Patrick Opay, (301) 713-2289.

SUPPLEMENTARY INFORMATION: The subject permits and amendments are requested under the authority of the Endangered Species Act of 1973, as amended (ESA; 16 U.S.C. 1531 et seq.) and the regulations governing the taking, importing, and exporting of endangered and threatened species (50 CFR 222-227). File No. 14344: The University of California, Davis, Bodega Marine Laboratory, 2099 Westside Road, Bodega Bay, CA 94923 [Gary Cherr, Ph.D., Principal Investigator] is requesting a permit for the captive maintenance, breeding and outplanting of white abalone, Haliotis sorenseni. The purpose of this research is to overcome key barriers to captive propagation of the endangered white abalone, to identify limitations to reproduction in wild animals, to further understand disease processes and how to mitigate them, and the most successful means of restoration. In addition, white abalone will be maintained at participating aquariums for education and reserve holding. No white abalone will be taken from the wild; animals will come from existing captive broodstock and their progeny. A permit is requested for five years. File No. 14400: Channel Islands National Park, 1901 Spinnaker Drive, Ventura, CA 93001 [Daniel Richards, Principal Investigator] is requesting a permit to continue monitoring of black abalone, Haliotis cracherodii, a species listed as endangered on February 13, 2009. The objective of this monitoring is to identify population trends through population counts and size distribution measurements. Monitoring would consist of only non-lethal take to measure abalone, and at selected sites, tag some individuals to determine survivorship and growth. This information will be used to follow recovery in wild abalone, track disease spread, and to further understand habitat preferences and changes associated with competition and reduced population size following disease mortality that may apply to recovery. A permit is requested for five years.

Dated: August 21, 2009.
P. Michael Payne,
Chief, Permits, Conservation and Education Division, Office of Protected Resources, National Marine Fisheries Service.

[FR Doc. E9-20729 Filed 8-26-09; 8:45 am]

BILLING CODE 3510-22-S